DEPARTMENT OF DEFENSE

Office of the Secretary

Membership of the Defense Contract Audit Agency Senior Executive Service Performance Review Boards

AGENCY: Defense Contract Audit Agency.

ACTION: Notice of membership of the Defense Contract Audit Agency Senior Executive Service Performance Review Boards.

SUMMARY: This notice announces the appointment of members to the Defense Contract Audit Agency (DCAA) Performance Review Boards. The Performance Review Boards provide fair and impartial review of Senior Executive Service (SES) performance appraisals and make recommendations to the Director, Defense Contract Audit Agency, regarding final performance ratings and performance awards for DCAA SES members.

DATES: Effective Date: Upon publication of this notice.

FOR FURTHER INFORMATION CONTACT: Donna Riney, Chief, Human Resources Management Division, Defense Contract Audit Agency, 8725 John J. Kingman Road, Suite 2135, Fort Belvoir, Virginia 22060-6219, (703) 767-1236.

SUPPLEMENTARY INFORMATION: In accordance with 5 U.S.C. 4314(c)(4), the following are the names and titles of DCAA career executives appointed to serve as members of the DCAA Performance Review Boards. Appointees will serve one-year terms, effective upon publication of this notice.

Headquarters Performance Review Board:

Mr. Joseph Garcia, Assistant Director, Operations, DCAA, chairperson.

Mr. Ken Saccoccia, Assistant Director, Policy and Plans, DCAA, member.

Mr. John Farenish, General Counsel, DCAA, member.

Regional Performance Review Board:

Mr. Francis Summers, Regional Director, Mid-Atlantic Region, DCAA, chairperson.

Mr. Christopher Andrezze, Regional Director, Western Region, DCAA, member.

Mr. Ed Nelson, Regional Director, Northeastern Region, member.

Dated: October 15, 2007.
L.M. Bynum,
Alternate OSD Federal Register Liaison Officer, DoD.

[FR Doc. 07-5165 Filed 10-18-07; 8:45 am]

BILLING CODE 5001-06-M